DEPARTMENT OF TRANSPORTATION

Federal Aviation Administration

[Docket No. FAA-2007-29351]

FAA Order 2150.3B, Compliance and Enforcement Program

AGENCY: Federal Aviation Administration (FAA), DOT.

ACTION: Notice of availability of revised agency order and withdrawal of Notice of Enforcement Policy.

SUMMARY: This notice announces the availability of FAA Order 2150.3B. Compliance and Enforcement Program. The order contains the policies, procedures, and guidelines for the Federal Aviation Administration's compliance and enforcement program. The order articulates the FAA's philosophy for using various remedies, including education, corrective action, informal action, remedial training, administrative action, and legal enforcement action, to address noncompliance with statutory and regulatory requirements enforced by the FAA. It provides for the public a written statement of the Administrator's policy guidance for imposing sanction for violations of such requirements. The notice also announces the withdrawal of a Notice of Enforcement Policy regarding intentionally false or fraudulent statements concerning the disclosure of alcohol-related or drug-related convictions, or other similar convictions, on applications for airman medical certificates.

ADDRESSES: This order is available to the public on the Internet at http://rgl.faa.gov. Interested persons may obtain copies by contacting the Office of the Chief Counsel, Enforcement Division, AGC-300, 800 Independence Avenue, SW., Washington, DC 20591; telephone (202) 267-7158.

SUPPLEMENTARY INFORMATION: The new policies and procedures in Order 2150.3B become effective in October 1, 2007. The sanctions guidance in Order 2150.3B applies to violations occurring on or after October 1, 2007. For violations occurring before October 1, 2007, FAA enforcement personnel apply the sanction guidance principles in FAA Order 2150.3A using up to the statutory maximum sanction amount in effect at the time of the violation.

Order 2150.3B provides new sanction policy for intentionally false or fraudulent statements concerning the disclosure of alcohol-related or drug-related conviction is, or other similar convictions, on applications for airman medical certificates. The Notice of Enforcement Policy found at 54 FR 15144; April 14, 1989 provides the sanctions less than revocation in certain cases in involving such intentionally false or fraudulent statements. The FAA rescinds the previous sanction policy. As provided in Order 2150.3B, it is now the FAA's general sanctions policy that the making of intentionally false or fraudulent statements in violation of FAA statutory or regulatory requirements will result in the revocation of all certificates held by a certificate holder.

FOR FURTHER INFORMATION CONTACT: Cynthia A. Dominik, Office of the Chief of Counsel, Enforcement Division (AGC-300), Federal Aviation Administration, 800 Independence Avenue, SW., Washington, DC 20591; telephone (202) 267-7158, e-mail Cynthia.Dominik@faa.gov.

Issued in Washington, DC, on September 25, 2007.
Peter J. Lynch,
Assistant Chief Counsel for Enforcement.

[FR Doc. 07-4823 Filed 9-28-07; 8:45 am]

BILLING CODE 4910-13-M